ENVIRONMENTAL PROTECTION AGENCY

[EPA-HQ-OPP-2007-1026; FRL-8816-2]

Bacillus subtilis; Registration Review Final Decision; Notice of Availability

AGENCY: Environmental Protection Agency (EPA).

ACTION: Notice.

SUMMARY: This notice announces the availability of EPA’s final registration review decision for the pesticide Bacillus subtilis, case 6012. Registration review is EPA’s periodic review of pesticide registrations to ensure that each pesticide continues to satisfy the statutory standard for registration, that is, that the pesticide can perform its intended function without causing unreasonable adverse effects on human health or the environment. Through this program, EPA is ensuring that each pesticide’s registration is based on current scientific and other knowledge, including its effects on human health and the environment.

FOR FURTHER INFORMATION CONTACT: For pesticide specific information, contact: Susanne Cerrelli, Biopesticides and Pollution Prevention Division (7511P), Office of Pesticide Programs, Environmental Protection Agency, 1200 Pennsylvania Ave., NW., Washington, DC 20460-0001; telephone number: (703) 308-8077; fax number: (703) 308-7026; e-mail address: cerrelli.susanne@epa.gov.

For general information on the registration review program, contact: Kevin Costello, Pesticide Re-evaluation Division (7508P), Office of Pesticide Programs, Environmental Protection Agency, 1200 Pennsylvania Ave., NW., Washington, DC 20460-0001; telephone number: (703) 305-5026; fax number: (703) 308-8090; e-mail address: costello.kevin @epa.gov.

SUPPLEMENTARY INFORMATION:

I. General Information

A. Does this Action Apply to Me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the pesticide specific contact person listed under FOR FURTHER INFORMATION CONTACT.

B. How Can I Get Copies of this Document and Other Related Information?

EPA has established a docket for this action under docket identification (ID) number EPA-HQ-OPP-2007-1026. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

A. What Action is the Agency Taking?

In accordance with 40 CFR 155.58(c), this notice announces the availability of EPA’s final registration review decision for Bacillus subtilis, case 6012. The Bacillus subtilis case consists of four strains: Strain GB03; Strain MBI 600; Strain QST 713; and var. amyloliquefaciens Strain FZB24. All four strains occur ubiquitously in the environment: Bacillus subtilis strain GB03 is used to prevent, control and suppress plant disease on barley, berries, bulb vegetables, cole crops, cotton, cucurbits, fruiting vegetables, herbs, leafy crops, legumes, ornamental plants and cuttings, peanuts, root/tuber and corm vegetables, soybeans, tomatoes, trees, tropical plants, turf, and wheat. Bacillus subtilis strain GB03 is applied as an irrigation application, pre-plant soak, overhead spray, soil drench, seed dressing, tank mix, or hydroponic system treatment; Bacillus subtilis strain MBI 600 is used to suppress disease organisms such as Botrytis, Alternaria, Rhizoctonia, and Fusarium and is also used to promote more effective nodulation by nitrogen-fixing bacteria to improve yields. It is used as a seed and in-furrow treatment on cotton, seed and pod vegetables, peanuts, soybeans, alfalfa, forage and turf grasses, wheat, barley, corn, and canola. It is also used in greenhouses to treat peat moss and soil intended for seeding, potting, or transplanting non-bearing fruit and vegetable seedlings and as a foliar spray on asparagus, cole crops, bulb vegetables, berry crops, cucurbits, flowers, bedding plants, ornamentals, tropical plants, fruiting vegetables, grape, leafy vegetables, pome fruit, stone fruit, strawberry, tuber/root and corm vegetables, turf, sod, lawns, trees, and shrubs. Bacillus subtilis strain QST 713 is used to prevent or reduce several types of fungal and bacterial pests on artichoke, asparagus, avocado, beans, beets, berries, brassica crops, bulb vegetables, celery, cereal grains, citrus, coffee, corn, cucurbits, beans, eggplant, grapes, herbs/spices, hops, kiwi, kohlrabi, leafy vegetables, legumes, melons, oil seed crops, oil palm, okra, peanuts, peppers, pome fruit, rice, root/tuber crops, silage crops, stone fruits, tomatoes, tree nuts, tropical fruits, field roses, forestry seedlings, lawns, ornamental flowering plants, ornamental foliage plants, ornamental trees and shrubs, seed production crops, sod, tobacco, and turf. Bacillus subtilis var. amyloliquefaciens strain FZB24 is used for plant strengthening, enhancing growth, increasing yields and suppressing soil-borne fungal diseases such as Rhizoctonia and Fusarium as a dip for seedlings, transplants, plugs, tubers, bulbs, corms, cuttings and roots of ornamentals, shrubs and trees, and as a spray over furrows for ornamentals, shrubs, trees, turf, vegetables, herbs and spices, and other crops. It is also incorporated into soils, soil-less growing media and mushroom spawn media and as a drench for interiorscapes and potted orchids and ferns.

In accordance with 40 CFR 155.57, a registration review decision is the Agency’s determination whether a pesticide meets, or does not meet, the standard for registration in FIFRA. EPA has considered Bacillus subtilis in light of the FIFRA standard for registration. The Bacillus subtilis Final Decision document in the docket describes the Agency’s rationale for issuing a registration review final decision for this pesticide.

In addition to the final registration review decision document, the registration review docket for Bacillus subtilis also includes other relevant documents related to the registration review of this case. The proposed registration review decision was posted to the docket and the public was invited to submit any comments or new information. During the comment period, the public comments received were not substantive and did not affect the Agency’s final decision.

In accordance with 40 CFR 155.58(c), the registration review case docket for Bacillus subtilis will remain open until all actions required in the final decision have been completed.

Background on the registration review program is provided at: http://www.epa.gov/oppsrrd1/registration_review. Links to earlier documents related to the registration review of this pesticide are provided at: http:/www.epa.gov/oppsrrd1/registration_review/bacillus_subtilis/index.htm.

B. What is the Agency's Authority for Taking this Action?

Section 3(g) of FIFRA and 40 CFR part 155, subpart C, provide authority for this action.

List of Subjects

Environmental protection, Bacillus subtilis, Pesticide and pest, Registration review.

Dated: March 24, 2010.
Keith A. Matthews,
Acting Director, Biopesticides and Pollution Prevention Division, Office of Pesticide Programs.

[FR Doc. 2010-7237 Filed 3-30-10; 8:45 a.m.]

BILLING CODE 6560-50-S